ENVIRONMENTAL PROTECTION AGENCY

[FRL—7451-3]

EPA Science Advisory Board; Notification of Radiation Advisory Committee Meeting; Request for Comments on the Consultative Panel

Purpose of this Notice: To: (1) Announce a public meeting of a Federal advisory committee, and (2) solicit public comment on the proposed consultative panel.

1. Meeting of the Radiation Advisory Committee—(February 25-27, 2003)

Pursuant to the Federal Advisory Committee Act, Pub. L. 92-463, notice is hereby given that the Radiation Advisory Committee (RAC) of the U.S. EPA Science Advisory Board (SAB) will meet on February 25-27, 2003 to conduct a consultation on two supplements being developed for the Multi-Agency Radiation Survey and Site Investigation Manual (MARSSIM). The RAC will also conduct some general committee business. It will receive briefings and program updates on a variety of EPA Office of Radiation and Indoor Air (ORIA) projects and it will discuss future projects. The meeting is open to the public, however, seating is limited and available on a first-come basis. Important Notice: Documents that are the subject of SAB reviews or consultations are normally available from the originating EPA office and are not available from the SAB Office—information concerning availability of documents generated by the SAB and the relevant Program Office is included below.

The meeting will begin on Tuesday, February 25 at 9 a.m. and adjourn no later than 5:30 p.m. that day. On Wednesday, February 26, the meeting will begin no earlier than 8:30 a.m. and adjourn no later than 5:30 p.m. that day. On Thursday, February 27, 2003, the meeting will begin no earlier than 8:30 a.m. and adjourn no later than 3:30 p.m. that day. All times noted are Eastern Time. The meeting will take place in the EPA Headquarters Building East Conference Room 1117A, 1201 Constitution Avenue, NW., Washington, DC 20004. For further information concerning the meeting, please contact the individuals listed at the end of this Federal Register notice.

Availability of the Meeting Materials: Materials for the meeting will be available at the meeting. The proposed agenda for the meeting will be posted approximately 10 calendar days prior to the meeting at the SAB's Web site (http://www.epa.gov/sab). For questions and information concerning the agenda, please contact Dr. K. Jack Kooyoomjian, Designated Federal Officer for the SAB's RAC at the locations provided below in this notice. For information pertaining to the MARSSIM consultation and ORIA Program Office information, please contact Dr. Mary E. Clark, Assistant Director, ORIA at the locations provided below in this notice.

2. Background on the Consultation

EPA's ORIA has requested the SAB to provide a consultation on two supplements being developed for the Multi-Agency Radiation Survey and Site Investigation Manual (MARSSIM). [The first supplement will be the Multi-Agency Radiation Survey and Assessment of Materials and Equipment (MARSAME), and the second supplement will be the Multi-Agency Radiation Survey and Assessment of Subsurface Soils (MARSASS)]. These projects reflect planning for major extensions of a multi-Agency initiative to provide federal guidance on determining whether a radioactively-contaminated site (including equipment and subsurface soils) has been adequately cleaned up.

The original MARSSIM, which was released in December, 1997, was reviewed by the SAB's RAC. The SAB report on the original review of the MARSSIM topic is also available on the SAB Web site under the reports listings (http://epa.gov/sab/pdf/rac9708.pdf) as EPA-SAB-RAC-97-008, entitled An SAB Report: Review of the Multi-Agency Radiation Survey and Site Investigation Manual (MARSSIM), September, 1997. The URL site for the federal MARSSIM which was published after receipt of the SAB advice is http://www.epa.gov/radiation/marssim/obtain.htm.

The original scope of MARSSIM was limited to surface soils and building surfaces to expedite the document's release. The SAB's RAN recommended that further expansions of scope be considered for subsequent editions of MARSSIM. The federal MARSSIM workgroup composed of members of the U.S. Environmental Protection Agency (EPA), U.S. Department of Defense (DOD), U.S. Department of Energy (DOE), U.S. Nuclear Regulatory Commission (NRC), and the state of Florida have obtained their respective Agencies' support to expand MARSSIM's scope, as recommended by the SAB, to include survey and assessment of materials and equipment as well as subsurface soils. Prior to preparing two draft documents incorporating these issues, the Federal MARSSIM workgroup will consult with the SAB's RAC so that the best available tools for these survey assessments will be developed.

In the consultation planned for February 25-27, the Agency is seeking advice on whether the technical plans to prepare supplements on subsurface soils and equipment are properly directed, and if there are any items, issues or practical applications that have not been considered that ought to be included by the federal MARSSIM workgroup in the current proposed plans.

3. Solicitation of Public Comment on the Proposed Consultative Panel

A “consultation” is one of several types of formal interaction between the Agency and the Science Advisory Board. The purpose of a consultation is to conduct an early discussion between the Agency and the SAB to help articulate important issues in the development of a project. The meeting is public and consists of briefings and discussions. In some cases a partial document, or an early draft may be available to serve as a basis for discussions. A charge is often used, but is less focused than that used in a formal peer review. No consensus advice is sought and no report is generated by the SAB.

To provide the Agency with meaningful input, we have determined that the following expertise, knowledge and experience is needed for the MARSSIM consultation: general expertise in radiological protection and health physics (includes radiation risk); knowledge of collection and detection techniques; statistical methods for radiological applications; knowledge of hydrogeological considerations (includes knowledge of saturated and unsaturated zone transport, fractured flow mechanics, and transport modeling of such phenomena); and knowledge of practical applications of cleanup and protection procedures. The EPA Science Advisory Board Staff Office has determined that the RAC, a standing committee of the Board, will conduct this consultation since the RAC already has the appropriate expertise without the need for additional expert consultants. Therefore, we are not soliciting additional experts for this consultation.

The SAB Staff Office will post the names and biosketches for members of the consultative Panel on the SAB Web site at: http://www.epa.gov/sab. Public comments will be accepted until February 18, 2003 on the information provided. During this comment period, the public will be requested to provide information, analysis or other documentation relevant to the membership of the panel for the Staff Office's final decision. Information, analysis or documentation must be received by Dr. K. Jack Kooyoomjian, the Designated Federal Officer (DFO) no later than February 18, 2003. Please see the address/contact information noted below.

For the EPA SAB, a balanced review panel (i.e., committee, subcommittee, or panel) is characterized by inclusion of candidates who possess the necessary domains of knowledge, the relevant scientific perspectives (which, among other factors, can be influenced by work history and affiliation), and the collective breadth of experience to adequately address the charge. Information provided by the public will be considered in the selection of the panel, along with information provided by candidates and information gathered by EPA SAB Staff independently on the background of each candidate (e.g., financial disclosure information and computer searches to evaluate a nominee's prior involvement with the topic under review). Specific criteria to be used in evaluating an individual subcommittee member include: (a) Scientific and/or technical expertise, knowledge, and experience (primary factors); (b) absence of financial conflicts of interest; (c) scientific credibility and impartiality; (d) availability and willingness to serve, and (e) ability to work constructively and effectively in committees.

4. General Information

Providing Oral or Written Comments at SAB Meetings: It is the policy of the EPA Science Advisory Board (SAB) to accept written public comments of any length, and to accommodate oral public comments whenever possible. The EPA SAB expects that public statements presented at its meetings will not be repetitive of previously submitted oral or written statements. Oral Comments: In general, each individual or group requesting an oral presentation at a face-to-face meeting will be limited to a total time of ten minutes (unless otherwise indicated). For teleconference meetings, opportunities for oral comment will usually be limited to no more than three minutes per speaker and no more than fifteen minutes total. Interested parties should contact the DFO at least one week prior to the meeting in order to be placed on the public speaker list for the meeting. Speakers may attend the meeting and provide comment up to the meeting time. Speakers should bring at least 35 copies of their comments and presentation slides for distribution to the reviewers and public at the meeting. Written Comments: Although the SAB accepts written comments until the date of the meeting (unless otherwise stated), written comments should be received in the SAB Staff Office at least one week prior to the meeting date so that the comments may be made available to the review panel for their consideration. Comments should be supplied to Dr. K. Jack Kooyoomjian, the DFO for the Radiation Advisory Committee (RAC) at the address/contact information noted below in the following formats: one hard copy with original signature, and one electronic copy via e-mail (acceptable file format: Adobe Acrobat, WordPerfect, Word, or Rich Text files (in IBM-PC/Windows 95/98 format). Those providing written comments and who attend the meeting are also asked to bring 35 copies of their comments for public distribution. Should comment be provided at the meeting and not in advance of the meeting, they should be in-hand to the DFO up to and immediately following the meeting. The SAB allows a grace period of 48 hours after adjournment of the public meeting to provide written comments supporting any verbal comments stated at the public meeting to be made a part of the public record.

FOR FURTHER INFORMATION CONTACT: Any member of the public wishing further information concerning this meeting, who wish to submit brief oral comments, or have comment on the constitution or balance of Radiation Advisory Committee (RAC) membership, must contact Dr. K. Jack Kooyoomjian, DFO, U.S. EPA Science Advisory Board (1400A), Suite 6450BB, 1200 Pennsylvania Avenue, NW., Washington, DC 20460; telephone/voice mail at (202) 564-4557, fax at (202) 501-0582; or via e-mail at kooyoomjian.jack@epa.gov. Requests for oral comments must be in writing (e-mail, fax or mail) and received by Dr. Kooyoomjian no later than noon Eastern Time five business days prior to the meeting date, February 18, 2003). For information pertaining to the MARSSIM consultation and ORIA Program Office information, please contact Dr. Mary E. Clark, Assistant Director, ORIA at telephone/voice mail at (202) 564-9348, fax at (202) 565-2043, or via e-mail at Clark.Marye@epa.gov, U.S. Environmental Protection Agency, 1200 Pennsylvania Ave., NW., Washington, DC 20460.

Members of the public desiring additional information about the meeting, such as the agenda, location and directions to the meeting room must contact Ms. Betty Fortune, EPA Science Advisory Board (1400A), Suite 6450, U.S. EPA, 1200 Pennsylvania Avenue, NW., Washington, DC 20460; telephone/voice mail at (202) 564-4534; fax at (202) 501-0582; or via e-mail at fortune.betty@epa.gov.

A copy of the draft agenda for the meeting will be posted on the SAB Web site (http://www.epa.gov/sab) (under the AGENDAS subheading) approximately 10 days before the meeting.

Meeting Access: Individuals requiring special accommodation at this meeting, including wheelchair access to the conference room, should contact Dr. Kooyoomjian or Ms. Fortune at least five business days prior to the meeting so that appropriate arrangements can be made.

Dated: February 4, 2003.
Vanessa T. Vu,
Director, EPA Science Advisory Board Staff Office.

[FR Doc. 03-3420 Filed 2-10-03; 8:45 am]

BILLING CODE 6560-50-P